CONSUMER PRODUCT SAFETY COMMISSION

16 CFR Part 1422

[Docket No. CPSC-2009-0087]

Recreational Off-Highway Vehicles (ROVs); Notice of Extension of Comment Period

AGENCY: U.S. Consumer Product Safety Commission.

ACTION: Extension of comment period.

SUMMARY: The Consumer Product Safety Commission (Commission or CPSC) published a notice of proposed rulemaking (NPR) in the Federal Register on November 19, 2014, concerning recreational off-highway vehicles (ROVs). The NPR invited the public to submit written comments by February 2, 2015. In response to two requests for an extension, the Commission extended the comment period to April 8, 2015. In response to two requests for an additional extension, the Commission is extending the comment period to June 19, 2015.

DATES: Submit comments by June 19, 2015.

ADDRESSES: You may submit comments, identified by Docket No. CPSC-2009-0087, by any of the following methods:

Electronic Submissions

Submit electronic comments in the following way:

Federal eRulemaking Portal: http://www.regulations.gov. Follow the instructions for submitting comments. The Commission does not accept comments submitted by electronic mail (email), except through: http://www.regulations.gov. The Commission encourages you to submit electronic comments by using the Federal eRulemaking Portal, as described above.

Written Submissions

Submit written submissions in the following way:

Mail/Hand delivery/Courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov and insert the Docket No. CPSC-2009-0087 into the “Search” box and follow the prompts.

SUPPLEMENTARY INFORMATION: On November 19, 2014, the Commission published an NPR in the Federal Register proposing standards that would apply to ROVs. (79 FR 68964). The Commission issued the proposed rule under the authority of the Consumer Product Safety Act (CPSA). In response to requests for an extension of the comment period by the Recreational Off-Highway Vehicle Association (ROHVA) and the Outdoor Power Equipment Institute (OPEI), the Commission extended the comment period to April 8, 2015. (80 FR 3535 (January 23, 2015)). ROHVA and OPEI have each requested another extension to the comment period. ROHVA asked for additional time to review documents provided by the Commission. OPEI noted a need for additional time for OPEI to complete and review “round robin” testing that OPEI is conducting to gauge the reproducibility and repeatability of tests the Commission proposed in the NPR. The Commission has considered the requests and is extending the comment period until June 19, 2015.

Alberta E. Mills,
Acting Secretary, U.S. Consumer Product Safety Commission.

[FR Doc. 2015-07910 Filed 4-6-15; 8:45 am]

BILLING CODE 6355-01-P